FEDERAL MARITIME COMMISSION

Notice of Agreements Filed

The Commission hereby gives notice of the filing of the following agreement under the Shipping Act of 1984. Interested parties may submit comments on the agreement to the Secretary by email at Secretary@fmc.gov, or by mail, Federal Maritime Commission, Washington, DC 20573, within twelve days of the date this notice appears in the Federal Register. Copies of agreements are available through the Commission's website (www.fmc.gov) or by contacting the Office of Agreements at (202)-523-5793 or tradeanalysis@fmc.gov.

Agreement No.: 011961-026.

Agreement Name: The Maritime Credit Agreement.

Parties: Maersk Line A/S; COSCO Container Lines Company Limited; Hamburg Sud; and Zim Integrated Shipping Services, Ltd.

Filing Party: Wayne Rohde; Cozen O'Connor.

Synopsis: The amendment deletes Wallenius Wilhelmsen Logistics AS as a party to the Agreement.

Proposed Effective Date: 9/30/2019.

Location: https://www2.fmc.gov/FMC.Agreements.Web/Public/AgreementHistory/426.

Dated: October 4, 2019.
Rachel Dickon,
Secretary.

[FR Doc. 2019-22064 Filed 10-8-19; 8:45 am]

BILLING CODE P